DEPARTMENT OF TRANSPORTATION

Federal Railroad Administration

49 CFR Part 213

[Docket No. FRA-2008-0036]

RIN 2130-AB90

Track Safety Standards; Continuous Welded Rail (CWR)

AGENCY: Federal Railroad Administration (FRA), Department of Transportation (DOT).

ACTION: Correcting amendment.

SUMMARY: FRA published a final rule in the Federal Register on August 25, 2009, revising the Track Safety Standards. The final rule included compliance dates for Class I, II, and III railroads only. The final rule inadvertently omitted compliance dates for commuter railroads, intercity passenger railroads, and any other additional railroads that have continuous welded rail (CWR). This document corrects the final rule by including compliance dates for the omitted railroads and amending a reference to the effective date in the rule text.

DATES: Effective date: This correcting amendment is effective October 21, 2009. Compliance dates: October 9, 2009 for Class I railroads; November 23, 2009 for Class II railroads, commuter railroads, and intercity passenger railroads; and February 22, 2010 for Class III railroads and any other additional railroads with CWR.

FOR FURTHER INFORMATION CONTACT: Kenneth Rusk, Staff Director, Office of Railroad Safety, FRA, 1200 New Jersey Avenue, SE., Washington, DC 20590 (telephone: (202) 493-6236); or Sarah Grimmer Yurasko, Trial Attorney, Office of the Chief Counsel, FRA, 1200 New Jersey Avenue, SE., Washington, DC 20950 (telephone: (202) 493-6390).

SUPPLEMENTARY INFORMATION: So that the agency would be better able to review CWR plans as required by the final rule published August 25, 2009 (74 FR 42988), FRA determined that there are three different compliance dates for railroads containing CWR, based on the railroad size.¹ In the final rule, FRA stated that the compliance date for Class I railroads is October 9, 2009 (45 days after the publication date), the compliance date for Class II railroads is November 23, 2009 (90 days after the publication date), and the compliance date is February 22, 2010 (180 days after the publication date) for Class III railroads. FRA inadvertently left commuter railroads, intercity passenger railroads, and any other additional railroads with CWR track out of the compliance schedule; therefore, FRA is now clarifying that the compliance date for commuter railroads and intercity passenger railroads is November 23, 2009, and the compliance date for any other additional railroads with CWR is February 22, 2010.

¹ See 49 CFR 1201.1-1(a).

Due to this inadvertent error, FRA is also changing the date listed at 49 CFR 213.119(c)(2). This paragraph states that, in the case of a bolted joint installed during CWR installation after August 25, 2009 (the publication date of the final rule), within 60 days the track owner must either: (1) Weld the joint; (2) install a joint with six bolts; ² or (3) anchor every tie 195 feet in both directions of the joint.

² See 49 CFR 213.121(e), stating that, in the case of CWR, each rail shall be bolted with at least two bolts at each joint. This is a total of four bolts required at each joint.

List of Subjects in 49 CFR Part 213

Penalties, Railroad safety, Reporting and recordkeeping requirements.

Accordingly, 49 CFR part 213 is corrected by making the following correcting amendment:

PART 213—TRACK SAFETY STANDARDS

1. The authority citation for part 213 continues to read as follows:

Authority: 49 U.S.C. 20102-20114 and 20142; 28 U.S.C. 2461, note; and 49 CFR 1.49(m).

§ 213.119 [Amended]

2. In § 213.119(c)(2), remove the date of “August 25, 2009”, and add in its place “October 21, 2009”.

Issued in Washington, DC, on September 30, 2009.
Joseph C. Szabo,
Administrator.

[FR Doc. E9-25278 Filed 10-20-09; 8:45 am]

BILLING CODE 4910-06-P